DEPARTMENT OF TRANSPORTATION

Surface Transportation Board

[STB Ex Parte No. 702]

Notification of Trails Act Agreement/Substitute Sponsorship

AGENCY: Surface Transportation Board.

ACTION: Notice of OMB approval of information collection.

SUMMARY: Pursuant to the Paperwork Reduction Act, 44 U.S.C. 3501-3519 (PRA), and Office of Management and Budget (OMB) regulations at 5 CFR 1320.11, the Surface Transportation Board has obtained OMB approval for the collection of information adopted by the Board in National Trails System Act and Railroad Rights-of-Way, STB Ex Parte No. 702 (STB served Apr. 30, 2012) (77 FR 25910 (5/2/2012)).

This collection, which is codified at 49 CFR 1152.29, has been assigned OMB Control No. 2140-0017. Unless renewed, OMB approval expires on May 31, 2015. The display of a currently valid OMB control number for this collection is required by law. Under the PRA and 5 CFR 1320.8, an agency may not conduct or sponsor, and a person is not required to respond to, a collection of information unless the collection displays a currently valid OMB control number.

Dated: May 25, 2012.
Jeffrey Herzig,
Clearance Clerk.

[FR Doc. 2012-13177 Filed 5-30-12; 8:45 am]

BILLING CODE 4915-01-P